DEPARTMENT OF ENERGY

Federal Energy Regulatory Commission

Combined Notice of Filings #1

Take notice that the Commission received the following electric corporate filings:

Docket Numbers: EC16-45-001; EC17-80-001.

Applicants: Seward Generation, LLC, Ebensburg Power Company.

Description: Notice of Change in Material Facts of Seward Generation, LLC, et al.

Filed Date: 8/28/18.

Accession Number: 20180828-5123.

Comments Due: 5 p.m. ET 9/18/18.

Take notice that the Commission received the following electric rate filings:

Docket Numbers: ER18-1982-001.

Applicants: Midcontinent Independent System Operator, Inc.

Description: Tariff Amendment: 2018-08-28_Amendment to MISO 2nd Quarter Tariff Clean-Up Filing to be effective 7/10/2018.

Filed Date: 8/28/18.

Accession Number: 20180828-5078.

Comments Due: 5 p.m. ET 9/18/18.

Docket Numbers: ER18-2189-001.

Applicants: Sanford Energy Associates, LLC.

Description: Tariff Amendment: Amendment to Application for Market Based Rate Filing to be effective 8/10/2018.

Filed Date: 8/28/18.

Accession Number: 20180828-5114.

Comments Due: 5 p.m. ET 9/18/18.

Docket Numbers: ER18-2330-000.

Applicants: Enel Green Power Rattlesnake Creek Wind Project, LLC.

Description: Baseline eTariff Filing: MBR Tariff to be effective 9/1/2018.

Filed Date: 8/28/18.

Accession Number: 20180828-5118.

Comments Due: 5 p.m. ET 9/18/18.

Docket Numbers: ER18-2331-000.

Applicants: PJM Interconnection, L.L.C.

Description: § 205(d) Rate Filing: Notice of Cancellation of WMPA SA No. 4632, Queue Position AB1-171 to be effective 8/27/2018.

Filed Date: 8/28/18.

Accession Number: 20180828-5122.

Comments Due: 5 p.m. ET 9/18/18.

Docket Numbers: ER18-2332-000.

Applicants: Interstate Power and Light Company.

Description: § 205(d) Rate Filing: Concurrence to MEC—IPL LBA Agreement (Upland Prairie) to be effective 10/12/2018.

Filed Date: 8/29/18.

Accession Number: 20180829-5000.

Comments Due: 5 p.m. ET 9/19/18.

Docket Numbers: ER18-2333-000.

Applicants: Interstate Power and Light Company.

Description: § 205(d) Rate Filing: Concurrence to MEC—IPL LBA Agreement (English Farms) to be effective 10/12/2018.

Filed Date: 8/29/18.

Accession Number: 20180829-5001.

Comments Due: 5 p.m. ET 9/19/18.

Docket Numbers: ER18-2335-000.

Applicants: Josco Energy USA, LLC.

Description: Baseline eTariff Filing: Market-Based Rate Tariff Application to be effective 8/30/2018.

Filed Date: 8/29/18.

Accession Number: 20180829-5113.

Comments Due: 5 p.m. ET 9/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2018.
Nathaniel J. Davis, Sr.,
Deputy Secretary.

[FR Doc. 2018-19262 Filed 9-5-18; 8:45 am]

BILLING CODE 6717-01-P